DEPARTMENT OF VETERANS AFFAIRS

Notice of Plans for the Department of Veterans Affairs To Assess the Current Scientific Literature and Historical Detailed Claims Data Regarding Certain Medical Conditions Associated With Military Environmental Exposures and To Solicit Public Comment

AGENCY: Department of Veterans Affairs.

ACTION: Notice.

SUMMARY: The Department of Veterans Affairs (VA) announces its plan to assess the scientific literature and historical claims data regarding certain medical conditions associated with military environmental exposures. This assessment will consider the possibility of a relationship between the following medical conditions—acute leukemias, chronic leukemias and multiple myeloma—and exposure to fine particulate matter (PM2.5) from airborne hazards and open burn pits for service members who were deployed in the Southwest Asia theater of operations, Somalia, Afghanistan, Djibouti, Egypt, Jordan, Lebanon, Syria, Yemen, and Uzbekistan. Multiple myeloma, when it originates in the head or neck, is considered a presumptive condition pursuant to the PACT Act. However, cases of multiple myeloma originating outside of the head and neck have not yet been evaluated for association with exposure to PM2.5 from airborne hazards and open burn pits in the Southwest Asia theater of operations, Somalia, Afghanistan, Djibouti, Egypt, Jordan, Lebanon, Syria, Yemen, and Uzbekistan. Additionally, a scientific review of acute leukemias, chronic leukemias, and multiple myeloma and exposure to PM2.5 and its associated chemical composition from airborne hazards and open burn pits in the Southwest Asia theater of operations, Somalia, Afghanistan, Djibouti, Egypt, Jordan, Lebanon, Syria, Yemen, and Uzbekistan would provide an opportunity to review an organ system (blood) not included in the PACT Act. VA solicits public comment on the importance of completing this assessment of scientific literature and historical claims data for these conditions or others. Once the conclusions of this scientific assessment have been peer reviewed, they may be used to inform decisions regarding veteran's qualifying period of service, such as those who served on active military, naval, or air service in the Southwest Asia theater of operations during the Persian Gulf War, as well as Somalia, Afghanistan, Djibouti, Egypt, Jordan, Lebanon, Syria, Yemen, or Uzbekistan from September 11, 2001, until the present time.

DATES: Comments must be received on or before August 25, 2023.

ADDRESSES: Comments must be submitted through www.regulations.gov. Except as provided below, comments received before the close of the comment period will be available at www.regulations.gov for public viewing, inspection, or copying, including any personally identifiable or confidential business information that is included in a comment. We post the comments received before the close of the comment period on the following website as soon as possible after they have been received: http://www.regulations.gov. VA will not post on Regulations.gov public comments that make threats to individuals or institutions or suggest that the commenter will take actions to harm the individual. VA encourages individuals not to submit duplicative comments. We will post acceptable comments from multiple unique commenters even if the content is identical or nearly identical to other comments. Any public comment received after the comment period's closing date is considered late and will not be considered in any potential future rulemaking.

FOR FURTHER INFORMATION CONTACT: Health Outcomes Military Exposures, Director of Policy, Peter D. Rumm, MD, Master of Public Health, at 202-461-7297.

SUPPLEMENTARY INFORMATION: In accordance with 38 U.S.C. 1172, as created by section 202 of the Sergeant First Class Heath Robinson Honoring our Promise to Address Comprehensive Toxics Act of 2022 (also known as the PACT Act), VA is publishing this notice about its planned scientific assessment of the possibility of a relationship between the following medical conditions—acute leukemias, chronic leukemias and multiple myeloma outside of the head and neck—and exposure to PM2.5 from airborne hazards and open burn pits in the Southwest Asia theater of operations, Somalia, Afghanistan, Djibouti, Egypt, Jordan, Lebanon, Syria, Yemen, and Uzbekistan. VA is also soliciting public comment about other conditions that would benefit from review of the possible association, the conditions, and health outcomes related to them.

The rationale for the selection of acute leukemias, chronic leukemias, and multiple myeloma outside of the head and neck is based on their biological properties that may suggest correlation between these diseases and the described exposures. Lymphomas already are included in the PACT Act, and leukemias. Leukemias and multiple myeloma represent the remaining types of cancer of blood forming tissues. The latest classifications of these cancer types recognize that some leukemias and lymphomas are different forms of the same disease, as chronic lymphocytic leukemia and small lymphocytic lymphoma. The bone marrow can be sensitive to the toxicity of specific chemicals including waste that may have been disposed of in open burn pits, including, among others, arsenic, lead, and mercury. Acute leukemias, chronic leukemias, and multiple myeloma outside of the head and neck have not been previously evaluated for association with exposure to PM2.5 from airborne hazards and open burn pits in the Southwest Asia theater of operations, Somalia, Afghanistan, Djibouti, Egypt, Jordan, Lebanon, Syria, Yemen, and Uzbekistan.

VA continues to review and assess information about military environmental exposure incidents, emerging scientific evidence regarding toxic substances, and health outcomes in deployed and non-deployed cohorts. Additionally, active epidemiological surveillance and ongoing monitoring of military exposures in collaboration with the Department of Defense continues. VA's involvement in surveillance, monitoring, and research covers a wide variety of areas from garrison specific, such as Karshi Khanabad (K-2) Air Base, to exposure specific, such as perfluoroalkyl and polyfluoroalkyl substances, to military occupation specific, such as missileers. Additional information is available at Military Exposures—Public Health (va.gov). When the scientific review concludes that there is a statistically significant signal or possible association of military environment exposure and health outcomes, this may trigger an investigation that may lead to additional research or may be subject to a Federal Register notice and comment process required under section 202 of the PACT Act. Additional notices of this type will be published as VA moves forward in the review of conditions and their possible association with military environmental exposures for the purposes of providing health care, services, and benefits to veterans entitled to them.

After reviewing comments received in response to this notice, VA will conduct the scientific review of the specified conditions, taking into account the latest scientific classification schemes for blood cancers and scientific evidence regarding shared etiologies, and will consider whether to conduct scientific reviews of any other conditions in response to the comments received, as appropriate. VA will then follow the procedures in 38 U.S.C. 1172-1174 for initiating and conducting assessments and formal evaluations. If appropriate, the VA will designate a Technical Working Group (TWG) to conduct an assessment pursuant to 38 U.S.C. 1172(c), and the TWG may develop a recommendation for formal evaluation under 38 U.S.C. 1173, pursuant to 38 U.S.C. 1172(d). Once a formal evaluation is commenced, a recommendation with respect to establishing a presumption of service connection must be submitted to the Secretary within 120 days, in accordance with 38 U.S.C. 1173(d). And within 160 days of receiving the recommendation with respect to establishing a presumption of service connection, the Secretary must determine whether a presumption is warranted in accordance with 38 U.S.C. 1174(a). This may include commencing rulemaking to establish new presumptions for some or all of the conditions formally evaluated and/or publishing notice in the Federal Register of any determination that a presumption or presumptions are unwarranted for some or all of the conditions that were subject of the formal evaluation.

Signing Authority

Denis McDonough, Secretary of Veterans Affairs, approved and signed this document on July 19, 2023, and authorized the undersigned to sign and submit the document to the Office of the Federal Register for publication electronically as an official document of the Department of Veterans Affairs.

Jeffrey M. Martin,
Assistant Director, Office of Regulation Policy & Management, Office of General Counsel, Department of Veterans Affairs.

[FR Doc. 2023-15624 Filed 7-25-23; 8:45 am]

BILLING CODE 8320-01-P